DEPARTMENT OF ENERGY

Federal Energy Regulatory Commission

[Project No. 12690-005]

Public Utility District No. 1 of Snohomish County, WA; Notice of Application Tendered for Filing With the Commission and Establishing Procedural Schedule for Licensing and Deadline for Submission of Final Amendments

Take notice that the following hydrokinetic pilot project license application has been filed with the Commission and is available for public inspection.

a. Type of Application: License for Pilot Project.

b. Project No.: 12690-005.

c. Date Filed: March 1, 2012.

d. Applicant: Public Utility District No. 1 of Snohomish County, Washington (Snohomish PUD).

e. Name of Project: Admiralty Inlet Pilot Tidal Project.

f. Location: On the east side of Admiralty Inlet in Puget Sound, Washington, about 1 kilometer west of Whidbey Island, entirely within Island County, Washington. The project would not occupy any federal lands.

g. Filed Pursuant to: Federal Power Act 16 U.S.C. 791(a)-828(c).

h. Applicant Contact: Steven J. Klein, Public Utility District of Snohomish County, Washington, P.O. Box 1107, 2320, California Street, Everett, WA 98206-1107; (425) 783-8473.

i. FERC Contact: David Turner (202) 502-6091.

j. This application is not ready for environmental analysis at this time.

k. With this notice, we are asking federal, state, local, and tribal agencies with jurisdiction and/or expertise with respect to environmental issues to cooperate with us in the preparation of the environmental document. Agencies who would like to request cooperating status should follow the instructions for filing described below.

All documents may be filed electronically via the Internet. See 18 CFR 385.2001(a)(1)(iii) and the instructions on the Commission's Web site http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

l. The proposed Admiralty Inlet Pilot Tidal Project would consist of (1) two 19.7-foot-diameter Open-Centre Turbines supplied by OpenHydro Group Ltd., mounted on completely submerged gravity foundations; (2) two transmission cables, which run from the turbines to the cable termination vault; (3) two transmission cables from the cable termination vault to the proposed cable control building; (4) a proposed cable control building housing the power conditioning and monitoring equipment; (5) a transmission cable bringing power from the cable control building to an existing 12.47-kV transmission line; and (6) appurtenant facilities for operation and maintenance. The estimated average annual generation of the project is 216,000 kilowatt-hours.

m. Locations of the Application: A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item (h) above.

n. You may also register online at http://www.ferc.gov/docs-filing/esubscription.asp to be notified via email of new filings and issuances related to this or other pending projects. For assistance, contact FERC Online Support.

o. Procedural Schedule:

The application will be processed according to the following preliminary Hydro Licensing Schedule. Revisions to the schedule may be made as appropriate.

Milestone | Target date
Filing of requested additional information | April 16, 2012.
Commission issues REA notice | April 23, 2012.
Filing of recommendations, preliminary terms and conditions, and preliminary fishway prescriptions | May 23, 2012.
Commission issues Single EA | July 23, 2012.
Comments on EA | August 22, 2012.

p. Final amendments to the application must be filed with the Commission no later than 30 days from the issuance date of the notice of ready for environmental analysis.

Dated: March 16, 2012.
Kimberly D. Bose,
Secretary.

[FR Doc. 2012-7150 Filed 3-23-12; 8:45 am]

BILLING CODE 6717-01-P